DEPARTMENT OF LABOR

Employment and Training Administration

[TA-W-73,448]

Blue Heron Paper Company, Including Workers Whose Unemployment Insurance (UI) Wages Are Paid Through Barrett Business Services, Inc., Oregon City, OR; Amended Certification Regarding Eligibility To Apply for Worker Adjustment Assistance

In accordance with Section 223 of the Trade Act of 1974, as amended (“Act”), 19 U.S.C. 2273, the Department of Labor issued a Certification of Eligibility to Apply for Worker Adjustment Assistance on May 27, 2010, applicable to workers of Blue Heron Paper Company, Oregon City, Oregon. The notice was published in the Federal Register on June 16, 2010 (75 FR 34174).

At the request of the State agency, the Department reviewed the certification for workers of the subject firm. The workers are engaged in activities related to the production of pulp and paper.

Information shows that Blue Heron Paper Company, through bankruptcy, was assigned a trustee, Barrett Business Services, Inc., to provide payroll services while preparing for closure. Some workers separated from employment at the Oregon City, Oregon location of the subject firm had their wages reported under a separated unemployment insurance (UI) tax account under the name Barrett Business Services, Inc.

Accordingly, the Department is amending this certification to properly reflect this matter.

The intent of the Department's certification is to include all workers of the subject firm who were adversely affected by increased imports of pulp and paper.

The amended notice applicable to TA-W-73,448 is hereby issued as follows:

All workers of Blue Heron Paper Company, including workers whose unemployment insurance (UI) wages are paid through Barrett Business Services, Inc., Oregon City, Oregon, who became totally or partially separated from employment on or after February 1, 2009 through May 27, 2012, and all workers in the group threatened with total or partial separation from employment on the date of certification through two years from the date of certification, are eligible to apply for adjustment assistance under Chapter 2 of Title II of the Trade Act of 1974, as amended.

Signed in Washington, DC this 27th day of April, 2011.
Michael W. Jaffe,
Certifying Officer, Office of Trade Adjustment Assistance.

[FR Doc. 2011-11478 Filed 5-10-11; 8:45 am]

BILLING CODE 4510-FN-P